DEPARTMENT OF ENERGY

[OE Docket No. EA-184-D]

Application To Export Electric Energy; Morgan Stanley Capital Group Inc.

AGENCY: Office of Electricity, Department of Energy.

ACTION: Notice of application.

SUMMARY: Morgan Stanley Capital Group Inc. (Applicant or MSCG) has applied for authorization to transmit electric energy from the United States to Mexico pursuant to the Federal Power Act.

DATES: Comments, protests, or motions to intervene must be submitted on or before December 6, 2021.

ADDRESSES: Comments, protests, motions to intervene, or requests for more information should be addressed by electronic mail to Electricity.Exports@hq.doe.gov, or by facsimile to (202) 586-8008.

FOR FURTHER INFORMATION CONTACT: Matt Aronoff, (202) 586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On October 7, 2021, MSCG filed an application with DOE (Application or App.) to transmit electric energy from the United States to Mexico “for a five-year period, or such longer period as the Department may authorize for similarly situated power marketers.” App. at 1. MSCG states that it “is a Delaware corporation with its principal place of business in New York, New York” and that it “is an indirect, wholly-owned subsidiary of Morgan Stanley.” Id. at 2. MSCG represents that it “does not directly own or control any electric generation or transmission facilities, nor does it hold a franchise or service territory for the transmission, distribution, or sale of electric power.” Id. at 3.

MSCG states that it “has purchased, or will purchase, the power that may be exported to Mexico from wholesale generators, electric utilities, and federal power marketing agencies.” App. at 7. MSCG contends that its proposed export of electricity “will not impair the sufficiency of electric supply within the United States, nor does it or will it impede or tend to impede the coordination in the public interest of facilities subject to the jurisdiction of the Federal Energy Regulatory Commission.” Id. at 1-2.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning MSCG's application to export electric energy to Mexico should be clearly marked with OE Docket No. EA-184-D. Additional copies are to be provided directly to Edward Zabrocki, 1633 Broadway, 29th Floor, New York, NY 10019, Ed.Zabrocki@morganstanley.com; Daniel E. Frank, 700 Sixth St. NW, Suite 700, Washington, DC 20001-3980, danielfrank@eversheds-sutherland.com; and Martha M. Hopkins, 700 Sixth St. NW, Suite 700, Washington, DC 20001-3980, martyhopkins@eversheds-sutherland.com.

Copies of the Application will be made available, upon request, by accessing the program website at https://energy.gov/node/11845, or by emailing Matt Aronoff at matthew.aronoff@hq.doe.gov.

Signed in Washington, DC, on November 1, 2021.
Christopher Lawrence,
Management and Program Analyst, Electricity Delivery Division, Office of Electricity.

[FR Doc. 2021-24218 Filed 11-4-21; 8:45 am]

BILLING CODE 6450-01-P